DEPARTMENT OF LABOR

Employment and Training Administration

Investigations Regarding Certifications of Eligibility To Apply for Worker Adjustment Assistance and Alternative Trade Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 25, 2006.

Interested persons are invited to submit written comments regarding the subject matter of the investigations to the Director, Division of Trade Adjustment Assistance, at the address shown below, not later than September 25, 2006.

The petitions filed in this case are available for inspection at the Office of the Director, Division of Trade Adjustment Assistance, Employment and Training Administration, U.S. Department of Labor, Room C-5311, 200 Constitution Avenue, NW., Washington, DC 20210.

Signed at Washington, DC this 7th day of September 2006.
Linda G. Poole,
Certifying Officer, Division of Trade Adjustment Assistance.

Appendix.—TAA Petitions Instituted Between 8/28/06 and 9/1/06
TA-W | Subject firm (petitioners) | Location | Date of institution | Date of petition
59960 | Fibre Metal Products Co. (Comp) | Concordville, PA | 08/28/06 | 08/17/06
59961 | Agilent Technologies (State) | Santa Rosa, CA | 08/28/06 | 08/25/06
59962 | Elbeco City Shirt Company (Union) | Frackville, PA | 08/28/06 | 08/25/06
59963 | COBE Cardiovascular, Inc. (Comp) | Arvada, CO | 08/28/06 | 08/23/06
59964 | Gerald Smith Hosiery (Comp) | Fort Payne, AL | 08/28/06 | 08/25/06
59965 | Jones Apparel of Texas II, Ltd. (Comp) | El Paso, TX | 08/28/06 | 08/21/06
59966 | ABB, Inc. (Union) | Lewisburg, WV | 08/28/06 | 08/28/06
59967 | GAC Chemical Corp. (Wkrs) | Searsport, ME | 08/28/06 | 08/16/06
59968 | Teamlinden (Comp) | Linden, TN | 08/29/06 | 08/03/06
59969 | Burke E. Parker Machinery Co., USA (Comp) | Grand Rapids, MI | 08/29/06 | 08/22/06
59970 | TDE Group, Inc. (Wkrs) | Somerset, KY | 08/29/06 | 08/28/06
59971 | Mar/Tron, Inc. (State) | Flippin, AR | 08/29/06 | 08/28/06
59972 | National Apparel (Wkrs) | San Francisco, CA | 08/29/06 | 08/28/06
59973 | Camel Manufacturing (State) | Pioneer, TN | 08/29/06 | 08/28/06
59974 | Delphi (Wkrs) | New Brunswick, NJ | 08/29/06 | 08/29/06
59975 | Timberland—The OIUtdoor Footwear Company (State) | Isabela, PR | 08/29/06 | 08/29/06
59976 | Briggs and Stratton Corp. (State) | Rolla, MO | 08/29/06 | 08/28/06
59977 | Central Penn Sewing Machine Co., Inc. (Comp) | Bloomsburg, PA | 08/29/06 | 08/29/06
59978 | Umicore Cobalt Products (Comp) | Maxton, NC | 08/29/06 | 08/28/06
59979 | Vital Performance, LLC (Wkrs) | Beaverton, OR | 08/30/06 | 08/29/06
59980 | M and J Industries, LLC (Comp) | Lucasville, OH | 08/30/06 | 08/18/06
59981 | Moeller Electric Corp. (State) | Lincoln Park, NJ | 08/30/06 | 08/29/06
59982 | Bridgestone/Firestone North American Tire, LLC (USW) | Oklahoma City, OK | 08/30/06 | 08/29/06
59983 | Ruggiero Seafood, Inc. (Wkrs) | Newark, NJ | 08/30/06 | 08/24/06
59984 | Schmald Tool and Die, Inc. (Comp) | Burton, MI | 08/30/06 | 08/29/06
59985 | River City Trucking (COMP) | Old Town, ME | 08/31/06 | 08/28/06
59986 | Crane Valve North America (COMP) | Washington, IA | 08/31/06 | 08/30/06
59987 | Nypro Inc. (COMP) | Hazard, KY | 08/31/06 | 08/30/06
59988 | Smith Die & Mold, Inc. (COMP) | Port Huron, MI | 08/31/06 | 08/29/06
59989 | Canam Metal Products, Inc. (State) | Colton, CA | 09/01/06 | 08/30/06
59990 | Honeywell International, Inc. (State) | Syosset, NY | 09/01/06 | 08/30/06
59991 | Sparta Manufacturing (Comp) | Sparta, WI | 09/01/06 | 08/29/06
59992 | Aimsworth Engineered (State) | Bemidji, MN | 09/01/06 | 08/31/06
59993 | Fenton Gift Shops, Inc. (Comp) | Williamstown, WV | 09/01/06 | 08/31/06
59994 | Ortech (Wkrs) | Kirksville, MO | 09/01/06 | 08/30/06
59995 | Bess Manufacturing Co. (Wkrs) | Bensalem, PA | 09/01/06 | 08/24/06
59996 | Federal Mogul Products, Inc. (Wkrs) | St. Louis, MO | 09/01/06 | 08/26/06
59997 | Whirlpool Corporation (Wkrs) | Lavergne, TN | 09/01/06 | 08/18/06
59998 | Mortgage Guaranty Insurance Corp. (Wkrs) | Milwaukee, WI | 09/01/06 | 08/24/06
59999 | Paxar Americas, Inc. (Wkrs) | Huger Heights, OH | 09/01/06 | 08/31/06
60000 | Dyer Specialty Co., Inc. (Comp) | Lake Havasu City, AZ | 09/01/06 | 08/15/06

[FR Doc. E6-15106 Filed 9-12-06; 8:45 am]

BILLING CODE 4510-30-P